DEPARTMENT OF TRANSPORTATION

Federal Transit Administration

Over-the-Road Bus Accessibility Program Grant Program: Corrections to Project ID Numbers

AGENCY: Federal Transit Administration (FTA), DOT.

ACTION: Notice; correction

SUMMARY: This notice revises Project Identification Numbers published in the August 22, 2008, Federal Transit Administration (FTA) notice titled “Over-the-Road Bus Accessibility Program Announcement of Project Selections.” The notice identifies corrections to Fiscal Year (FY) 2007 and 2008 Project Identification Numbers; however, award amounts remain unchanged.

FOR FURTHER INFORMATION CONTACT: Contact the appropriate FTA Regional Office (Appendix A) or Blenda Younger, Office of Program Management, (202) 366-2053.

I. Corrections

In the Federal Register of August 22, 2008 (73 FR 49737), the Federal Transit Administration (FTA) published a table listing award amounts under the Over-the-Road Bus Accessibility Program. A revised table accompanies this notice which includes the following technical corrections.

1. The Project ID number indicated as D2007-OTRB-061, total award $151,200, should be deleted and replaced with two rows: D2007-OTRB-061, total, $8,856 and D2008-OTRB-061, total, $142,344, as this project will be funded using both FY 2007 and FY 2008 funds.

2. The Project ID numbers indicated as D2007-OTRB-062 through D2007-OTRB-079 should be corrected to read D2008-OTRB-062 through D2008-OTRB-079, as these projects will be funded with FY 2008 funds and not FY 2007 funds. The total monetary awards remain unchanged and the total awarded to each recipient remains unchanged.

Issued in Washington, DC, this 4th day of November, 2008.
James S. Simpson,
Administrator.

BILLING CODE 4910-57-P

Appendix A—FTA Regional Offices

Richard H. Doyle, Regional Administrator, Region 1-Boston, Kendall Square, 55 Broadway, Suite 920, Cambridge, MA 02142-1093,Tel. 617 494-2055 | Robert C. Patrick, Regional Administrator, Region 6—Ft. Worth, 819 Taylor Street, Room 8A36, Ft. Worth, TX 76102, Tel. 817 978-0550.
States served: Connecticut, Maine, Massachusetts, New Hampshire, Rhode Island, and Vermont | States served: Arkansas, Louisiana, Oklahoma, New Mexico and Texas.
Brigid Hynes-Cherin, Regional Administrator, Region 2—New York, One Bowling Green, Room 429, New York, NY 10004-1415, Tel. No. 212 668-2170 | Mokhtee Ahmad, Regional Administrator, Region 7—Kansas City, MO, 901 Locust Street, Room 404, Kansas City, MO 64106, Tel. 816 329-3920.
States served: New Jersey, New York | States served: Iowa, Kansas, Missouri, and Nebraska.
Letitia Thompson, Regional Administrator, Region 3—Philadelphia, 1760 Market Street, Suite 500, Philadelphia, PA 19103-4124, Tel. 215 656-7100 | Terry Rosapep, Regional Administrator, Region 8—Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and Wyoming.
Yvette Taylor, Regional Administrator, Region 4—Atlanta, 230 Peachtree Street, NW, Suite 800, Atlanta, GA 30303, Tel. 404 865-5600 | Leslie T. Rogers, Regional Administrator, Region 9—San Francisco, 201 Mission Street, Room 1650, San Francisco, CA 94105-1926, Tel. 415 744-3133.
States served: Alabama, Florida, Georgia, Kentucky, Mississippi, North Carolina, Puerto Rico, South Carolina, Tennessee, and Virgin Islands | States served: American Samoa, Arizona, California, Guam, Hawaii, Nevada, and the Northern Mariana Islands.
Marisol Simon, Regional Administrator, Region 5—Chicago, 200 West Adams Street, Suite 320, Chicago, IL 60606, Tel. 312 353-2789 | Rick Krochalis, Regional Administrator, Region 10—Seattle, Jackson Federal Building, 915 Second Avenue, Suite 3142, Seattle, WA 98174-1002, Tel. 206 220-7954.
States served: Illinois, Indiana, Michigan, Minnesota, Ohio, and Wisconsin | States served: Alaska, Idaho, Oregon, and Washington.

[FR Doc. E8-27283 Filed 11-24-08; 8:45 am]

BILLING CODE 4910-57-C